DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Enforcement, Compliance and Analysis, tel.: 202-622-2490.

SUPPLEMENTARY INFORMATION:

Electronic Availability

The SDN List and additional information concerning OFAC sanctions programs are available on OFAC's website (https://www.treasury.gov/ofac).

Notice of OFAC Actions

On July 30, 2024, OFAC determined that the property and interests in property subject to U.S. jurisdiction of the following persons are blocked under the relevant sanctions authorities listed below.

Individuals

1. HASHEMI, Sayyed Ali Seraj (a.k.a. HASHEMI, Ali; a.k.a. SERAJHASHEMI, Seyed Ali), China; Iran; DOB 05 Sep 1976; nationality Iran; Additional Sanctions Information—Subject to Secondary Sanctions; Gender Male; National ID No. 0452521629 (Iran) (individual) [NPWMD] [IFSR] (Linked To: BEIJING SHINY NIGHTS TECHNOLOGY DEVELOPMENT CO., LTD).

Designated pursuant to section 1(a)(iv) of Executive Order 13382 of June 28, 2005, “Blocking Property of Weapons of Mass Destruction Proliferators and Their Supporters,” 70 FR 38567, 3 CFR, 2005 Comp., p. 170 (E.O. 13382), for acting or purporting to act for or on behalf of, directly or indirectly, BEIJING SHINY NIGHTS TECHNOLOGY DEVELOPMENT CO., LTD, a person whose property and interests in property are blocked pursuant to E.O. 13382.

2. JAVAR, Saeed Hamidi (a.k.a. JOVAR, Said Hamidi), Tehran, Iran; DOB 16 Sep 1983; nationality Iran; Additional Sanctions Information—Subject to Secondary Sanctions; Gender Male; Passport F24341979 (Iran) expires 27 May 2017; National ID No. 0063519445 (Iran) (individual) [NPWMD] [IFSR] (Linked To: BEIJING SHINY NIGHTS TECHNOLOGY DEVELOPMENT CO., LTD).

Designated pursuant to section 1(a)(iii) of E.O. 13382 for having provided, or attempted to provide, financial, material, technological or other support for, or goods or services in support of, BEIJING SHINY NIGHTS TECHNOLOGY DEVELOPMENT CO., LTD, a person whose property and interests in property are blocked pursuant to E.O. 13382.

3. SORBANI, Ezzatullah Ghasemian (a.k.a. GASEMIAN, Ezzatollah; a.k.a. SORBONI, Ezzatollah Ghasemian; a.k.a. SURBENI, Ezzatollah Ghasemian), Tehran, Iran; DOB 01 Feb 1967; nationality Iran; Additional Sanctions Information—Subject to Secondary Sanctions; Gender Male; National ID No. 2090512385 (Iran) (individual) [NPWMD] [IFSR] (Linked To: AZMOON PAJOHAN HESGAR LIMITED LIABILITY COMPANY).

Designated pursuant to section 1(a)(iv) of E.O. 13382 for acting or purporting to act for or on behalf of, directly or indirectly, AZMOON PAJOHAN HESGAR LIMITED LIABILITY COMPANY, a person whose property and interests in property are blocked pursuant to E.O. 13382.

4. ABDOLLAHI, Mohammad (a.k.a. RICHTER, Aurik), Esfahan, Iran; DOB 18 Sep 1992; POB Esfahan, Iran; nationality Iran; Additional Sanctions Information—Subject to Secondary Sanctions; Gender Male (individual) [NPWMD] [IFSR] (Linked To: ELECTRO OPTIC SAIRAN INDUSTRIES CO.).

Designated pursuant to section 1(a)(iv) of E.O. 13382 for acting or purporting to act for or on behalf of, directly or indirectly, ELECTRO OPTIC SAIRAN INDUSTRIES CO., a person whose property and interests in property are blocked pursuant to E.O. 13382.

5. TONG, Thomas Ho Ming, Hong Kong, China; DOB 19 Nov 1971; POB Hong Kong, China; nationality China; Additional Sanctions Information—Subject to Secondary Sanctions; Gender Male; Passport HA0872080 (Hong Kong) (individual) [NPWMD] [IFSR] (Linked To: ELECTRO OPTIC SAIRAN INDUSTRIES CO.).

Designated pursuant to section 1(a)(iii) of E.O. 13382 for having provided, or attempted to provide, financial, material, technological or other support for, or goods or services in support of, ELECTRO OPTIC SAIRAN INDUSTRIES CO., a person whose property and interests in property are blocked pursuant to E.O. 13382.

Entities

1. AZMOON PAJOHAN HESGAR LIMITED LIABILITY COMPANY (a.k.a. AZMOUN PAZOHAN HESGAR; a.k.a. AZMUN PEZHUHAN HESGAR CO), No. 265, Ground Floor, Twenty-Seventh St, Amir Sarlashgar Hossein Lashgari Highway, Esteghlal Town (Jadeh Makhsos), Tehran 1399816111, Iran; Additional Sanctions Information—Subject to Secondary Sanctions; Organization Established Date 22 Jun 2011; National ID No. 10320581166 (Iran); Registration Number 407278 (Iran) [NPWMD] [IFSR] (Linked To: MINISTRY OF DEFENSE AND ARMED FORCES LOGISTICS).

Designated pursuant to section 1(a)(iii) of E.O. 13382 for having provided, or attempted to provide, financial, material, technological or other support for, or goods or services in support of, MINISTRY OF DEFENSE AND ARMED FORCES LOGISTICS, a person whose property and interests in property are blocked pursuant to E.O. 13382.

2. BUY BEST ELECTRONIC PARS COMPANY (a.k.a. KHARID-E BARTAR ELECTRONIC PARS; a.k.a. “BUY BEST ELECTRONIC”), Block No. 20, 3rd Floor, North Unit, Sadeqiyeh Square, Shahid Ayatollah Ashrafi Esfahani Highway, Marvdasht St, District 14, Tehran 1451613418, Iran; Number 20, Unit 7, Marvdasht Street, 2nd Sadeghiyeh Square, Tehran, Iran; Number 110, First Floor, Tavakol Shopping Center, Tehran, Iran; 1201 Room, Guo Li Building-Zhonghang Road, Futian District, Shenzhen, China; website https://buybestelectronic.com; alt. Website https://bbe.ir; Additional Sanctions Information—Subject to Secondary Sanctions; Organization Established Date 20 Oct 2009; National ID No. 10104073089 (Iran); Registration Number 358871 (Iran) [NPWMD] [IFSR] (Linked To: JAVAR, Saeed Hamidi).

Designated pursuant to section 1(a)(iv) of E.O. 13382 for being owned or controlled by, or acting or purporting to act for or on behalf of, directly or indirectly, JAVAR, Saeed Hamidi, a person whose property and interests in property are blocked pursuant to E.O. 13382.

3. SHENZHEN RION TECHNOLOGY CO., LTD. (a.k.a. RION TECHNOLOGY), 4F, Building 1, Phase II Workshop, Fu'an Industrial City, Dayang Development Zone, Fuyong Sub-District, Baoan District, Shenzhen, Guangdong 518100, China; No. 90, Dayang Road, Fuyong Town, Baoan District, Shenzhen, Guangdong 518100, China; website www.rion-tech.net; alt. Website www.rionsystem.com; Additional Sanctions Information—Subject to Secondary Sanctions; Organization Established Date 24 Apr 2008; Unified Social Credit Code (USCC) 914403006748114670 (China) [NPWMD] [IFSR] (Linked To: MINISTRY OF DEFENSE AND ARMED FORCES LOGISTICS).

Designated pursuant to section 1(a)(iii) of E.O. 13382 for having provided, or attempted to provide, financial, material, technological or other support for, or goods or services in support of, MINISTRY OF DEFENSE AND ARMED FORCES LOGISTICS, a person whose property and interests in property are blocked pursuant to E.O. 13382.

4. BRIGHT SHORE INC LIMITED, Room 1004, 10/F, Block B, Hung Hom Commercial Centre, 37-39 Ma Tau Wai Road, Hung Hom, Kowloon, Hong Kong, China; 7/F, Pearl Oriental Tower, 225 Nathan Road, Kowloon, Hong Kong, China; Organization Established Date 09 May 2018; Company Number 2692320 (Hong Kong); Business Registration Number 69335785 (Hong Kong) [NPWMD] (Linked To: TONG, Thomas Ho Ming).

Designated pursuant to section 1(a)(iv) of E.O. 13382 for being owned or controlled by, or acting or purporting to act for or on behalf of, directly or indirectly, TONG, Thomas Ho Ming, a person whose property and interests in property are blocked pursuant to E.O. 13382.

5. BTW INTERNATIONAL LIMITED, Flat 1512, 15/F, Lucky Centre, Hong Kong, China; Additional Sanctions Information—Subject to Secondary Sanctions; Organization Established Date 26 Jan 2022; Company Number 3124719 (Hong Kong); Business Registration Number 73761413 (Hong Kong) [NPWMD] [IFSR] (Linked To: ELECTRO OPTIC SAIRAN INDUSTRIES CO.).

Designated pursuant to section 1(a)(iii) of E.O. 13382 for having provided, or attempted to provide, financial, material, technological or other support for, or goods or services in support of, ELECTRO OPTIC SAIRAN INDUSTRIES CO., a person whose property and interests in property are blocked pursuant to E.O. 13382.

6. CLOUD ELEMENT COMPANY LIMITED, Kowloon, Hong Kong, China; Additional Sanctions Information—Subject to Secondary Sanctions; Organization Established Date 25 Jan 2021; Company Number 3014512 (Hong Kong); Business Registration Number 72602997 (Hong Kong) [NPWMD] [IFSR] (Linked To: ELECTRO OPTIC SAIRAN INDUSTRIES CO.).

Designated pursuant to section 1(a)(iii) of E.O. 13382 for having provided, or attempted to provide, financial, material, technological or other support for, or goods or services in support of, ELECTRO OPTIC SAIRAN INDUSTRIES CO., a person whose property and interests in property are blocked pursuant to E.O. 13382.

7. TAS TECHNOLOGY COMPANY LIMITED (a.k.a. TAS TECHNOLOGY CO., LIMITED), Room 6, Block A, 23/F Hover Industrial Building 26-38 Kwai Cheong Road, Kwai Chung, Hong Kong, China; Room 2306, Block A, 23/F Hover Industrial Building, 26-38 Kwai Cheong Road, Kwai Chung, Hong Kong, China; Room 610, 6th Floor, Xusheng Research and Development Building, Yintian, Xixiang, Bao'an District, Shenzhen, China; website tas-tek.com; Additional Sanctions Information—Subject to Secondary Sanctions; Organization Established Date 26 Jan 2010; Company Number 1415623 (Hong Kong) [NPWMD] [IFSR] (Linked To: ELECTRO OPTIC SAIRAN INDUSTRIES CO.).

Designated pursuant to section 1(a)(iii) of E.O. 13382 for having provided, or attempted to provide, financial, material, technological or other support for, or goods or services in support of, ELECTRO OPTIC SAIRAN INDUSTRIES CO., a person whose property and interests in property are blocked pursuant to E.O. 13382.

Dated: July 30, 2024.
Bradley T. Smith,
Director, Office of Foreign Assets Control, U.S. Department of the Treasury.

[FR Doc. 2024-18101 Filed 8-13-24; 8:45 am]

BILLING CODE 4810-AL-P